FEDERAL HOUSING FINANCE AGENCY

[No. 2009-N-14]

Federal Home Loan Bank Members Selected for Community Support Review

AGENCY: Federal Housing Finance Agency.

ACTION: Notice.

SUMMARY: The Federal Housing Finance Agency (FHFA) is announcing the Federal Home Loan Bank (Bank) members it has selected for the 2008-09 seventh round review cycle under the FHFA's community support requirements regulation. This notice also prescribes the deadline by which Bank members selected for review must submit Community Support Statements to FHFA.

DATES: Bank members selected for the review cycle under the FHFA's community support requirements regulation must submit completed Community Support Statements to FHFA on or before December 21, 2009.

ADDRESSES: Bank members selected for the 2008-09 seventh round review cycle under the FHFA's community support requirements regulation must submit completed Community Support Statements to FHFA either by hard-copy mail at the Federal Housing Finance Agency, Housing Mission and Goals, 1625 Eye Street, NW., Washington, DC 20006, or by electronic mail at: hmgcommunitysupportprogram@fhfa.gov.

FOR FURTHER INFORMATION CONTACT: Rona Richardson, Office Assistant, Housing Mission and Goals, Federal Housing Finance Agency, at 202-408-2945, by electronic mail at hmgcommunitysupportprogram@fhfa.gov, or by hard-copy mail at the Federal Housing Finance Agency, 1625 Eye Street, NW., Washington, DC 20006.

SUPPLEMENTARY INFORMATION:

I. Selection for Community Support Review

Section 10(g)(1) of the Federal Home Loan Bank Act (Bank Act) requires FHFA to promulgate regulations establishing standards of community investment or service Bank members must meet in order to maintain access to long-term advances. See 12 U.S.C. 1430(g)(1). The regulations promulgated by FHFA must take into account factors such as the Bank member's performance under the Community Reinvestment Act of 1977 (CRA), 12 U.S.C. 2901 et seq., and record of lending to first-time homebuyers. See 12 U.S.C. 1430(g)(2). Pursuant to section 10(g) of the Bank Act, FHFA has promulgated a community support requirements regulation that establishes standards a Bank member must meet in order to maintain access to long-term advances, and review criteria FHFA must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, FHFA selects approximately one-eighth of the members in each Bank district for community support review each calendar quarter. 12 CFR 944.2(a). FHFA will not review an institution's community support performance until it has been a Bank member for at least one year. Selection for review is not, nor should it be construed as, any indication of either the financial condition or the community support performance of the member.

Each Bank member selected for review must complete a Community Support Statement and submit it to FHFA by the December 21, 2009 deadline prescribed in this notice. 12 CFR 944.2(b)(1)(ii) and (c). On or before November 16, 2009, each Bank will notify the members in its district that have been selected for the 2008-09 seventh round community support review cycle that they must complete and submit to FHFA by the deadline a Community Support Statement. 12 CFR 944.2(b)(2)(i). The member's Bank will provide a blank Community Support Statement Form (OMB No. 2590-0005), which also is available on the FHFA's Web site: http://www.fhfa.gov/webfiles/2924/FHFAForm060.pdf. Upon request, the member's Bank also will provide assistance in completing the Community Support Statement.

FHFA has selected the following members for the 2008-09 seventh round community support review cycle:

Federal Home Loan Bank of Boston—District 1
First New England Federal Credit Union | East Hartford | Connecticut.
Bankers' Bank Northeast | Glastonbury | Connecticut.
Fieldpoint Private Bank & Trust | Greenwich | Connecticut.
Ledge Light Federal Credit Union | Groton | Connecticut.
Connecticut Bank and Trust Company (The) | Hartford | Connecticut.
Prudential Bank & Trust, FSB | Hartford | Connecticut.
Northeast Family Federal Credit Union | Manchester | Connecticut.
Connex Credit Union | North Haven | Connecticut.
Eastern Federal Bank | Norwich | Connecticut.
Workers Federal Credit Union | Stafford | Connecticut.
Connecticut Community Bank, N.A | Westport | Connecticut.
Avon Co-operative Bank | Avon | Massachusetts.
Belmont Savings Bank | Belmont | Massachusetts.
Beverly National Bank | Beverly | Massachusetts.
Industrial Credit Union | Boston | Massachusetts.
Liberty Bay Credit Union | Boston | Massachusetts.
Bridgewater Credit Union | Bridgewater | Massachusetts.
Massachusetts Institute of Technology FCU | Cambridge | Massachusetts.
Polish National Credit Union | Chicopee | Massachusetts.
Boston Firefighters Credit Union | Dorchester | Massachusetts.
Fall River Municipal Credit Union | Fall River | Massachusetts.
Holbrook Co-operative Bank | Holbrook | Massachusetts.
Lenox National Bank | Lenox | Massachusetts.
Butler Bank, A Co-Operative Bank | Lowell | Massachusetts.
Enterprise Bank and Trust Company | Lowell | Massachusetts.
M/A-Com Federal Credit Union | Lowell | Massachusetts.
Luso Federal Credit Union | Ludlow | Massachusetts.
Brotherhood Credit Union | Lynn | Massachusetts.
Digital Federal Credit Union | Marlborough | Massachusetts.
Melrose Co-operative Bank | Melrose | Massachusetts.
Direct Federal Credit Union | Needham | Massachusetts.
Southcoast Health System Federal Credit Union | New Bedford | Massachusetts.
Northmark Bank | North Andover | Massachusetts.
Luso-American Credit Union | Peabody | Massachusetts.
Seaport Credit Union | Salem | Massachusetts.
Sharon Credit Union | Sharon | Massachusetts.
Braintree Co-Operative Bank (The) | South Braintree | Massachusetts.
MassMutual Federal Credit Union | Springfield | Massachusetts.
Taunton Federal Credit Union | Taunton | Massachusetts.
RTN Federal Credit Union | Waltham | Massachusetts.
Webster First Federal Credit Union | Webster | Massachusetts.
Westport Federal Credit Union | Westport | Massachusetts.
Eastern Corporate Federal Credit Union | Woburn | Massachusetts.
AllCom Credit Union | Worcester | Massachusetts.
Commerce Bank & Trust Company | Worcester | Massachusetts.
Worcester Credit Union | Worcester | Massachusetts.
Seaboard Federal Credit Union | Bucksport | Maine.
Gorham Savings Bank | Gorham | Maine.
NorState Federal Credit Union | Madawaska | Maine.
Norway Savings Bank | Norway | Maine.
University Credit Union | Orono | Maine.
Sebasticook Valley Federal Credit Union | Pittsfield | Maine.
Infinity Federal Credit Union | Portland | Maine.
New Dimensions Federal Credit Union | Waterville | Maine.
Bellwether Community Credit Union | Manchester | New Hampshire.
Granite State Credit Union | Manchester | New Hampshire.
Members First Credit Union of New Hampshire | Manchester | New Hampshire.
Bank of America Rhode Island, N.A | Providence | Rhode Island.
Columbus Credit Union | Warren | Rhode Island.
Centreville Savings Bank | West Warwick | Rhode Island.
New England Federal Credit Union | Williston | Vermont.
Federal Home Loan Bank of New York—District 2
Hudson Valley Bank, National Association | Stamford | Connecticut.
Affinity Federal Credit Union | Bedminster | New Jersey.
Somerset Savings Bank, SLA | Bound Brook | New Jersey.
Financial Resources Federal Credit Union | Bridgewater | New Jersey.
Liberty Bell Bank | Cherry Hill | New Jersey.
Northern State Bank | Closter | New Jersey.
Unilever Federal Credit Union | Englewood Cliffs | New Jersey.
CENLAR FSB | Ewing Township | New Jersey.
Grand Bank, National Association | Hamilton | New Jersey.
Enterprise National Bank N.J | Kenilworth | New Jersey.
MetLife Bank, NA | Kingston | New Jersey.
Central Jersey Bank, National Association | Long Branch | New Jersey.
Millville Savings & Loan Association | Millville | New Jersey.
Hudson City Savings Bank | Paramus | New Jersey.
Harvest Community Bank | Pennsville | New Jersey.
United Teletech Financial Federal Credit Union | Tinton Falls | New Jersey.
North Jersey Federal Credit Union | Totowa | New Jersey.
Llewellyn-Edison Savings Bank, FSB | West Orange | New Jersey.
N.J.M. Bank, FSB | West Trenton | New Jersey.
Pascack Community Bank | Westwood | New Jersey.
First Investors Federal Savings Bank | Woodbridge | New Jersey.
Bank of Akron | Akron | New York.
Capital Bank & Trust Company | Albany | New York.
State Employees Federal Credit Union | Albany | New York.
Bethpage Federal Credit Union | Bethpage | New York.
Putnam County Savings Bank | Brewster | New York.
New York National Bank | Bronx | New York.
First American International Bank | Brooklyn | New York.
First State Bank | Canisteo | New York.
Corning Federal Credit Union | Corning | New York.
The Delaware National Bank of Delhi | Delhi | New York.
The First National Bank of Dryden | Dryden | New York.
Beacon Federal | East Syracuse | New York.
Flushing Savings Bank, FSB | Flushing | New York.
American Community Bank | Glen Cove | New York.
Gouverneur S&L Association | Gouverneur | New York.
Alternatives Federal Credit Union | Ithaca | New York.
CFCU Community Credit Union | Ithaca | New York.
Community Mutual Savings Bank | Mt. Vernon | New York.
Bank Leumi USA | New York | New York.
Doral Bank, FSB | New York | New York.
Fiduciary Trust Company International | New York | New York.
Liberty Pointe Bank | New York | New York.
Metropolitan National Bank | New York | New York.
Progressive Credit Union | New York | New York.
Shinhan Bank America | New York | New York.
Gotham Bank of New York | New York City | New York.
Hudson Heritage Federal Credit Union | Newburgh | New York.
Oceanside Christopher Federal Credit Union | Oceanside | New York.
Hudson Valley Federal Credit Union | Poughkeepsie | New York.
Savannah Bank, National Association | Savannah | New York.
Reliant Community Credit Union | Sodus | New York.
Hamptons State Bank | Southampton | New York.
Empower Federal Credit Union | Syracuse | New York.
Pioneer Savings Bank | Troy | New York.
Northern Federal Credit Union | Watertown | New York.
FirstBank of Puerto Rico | Santurce | Puerto Rico.
Citizens Bank, National Association | Providence | Rhode Island.
HSBC Bank USA, N.A | Buffalo | New York.
Bank of St. Croix, Inc | Christiansted | Virgin Islands.
Federal Home Loan Bank of Pittsburgh—District 3
Felton Bank (The) | Felton | Delaware.
Community Bank Delaware | Lewes | Delaware.
AIG Federal Savings Bank | Wilmington | Delaware.
Wilmington Trust Company | Wilmington | Delaware.
People First Federal Credit Union | Allentown | Pennsylvania.
Bally Savings Bank | Bally | Pennsylvania.
Meridian Bank | Berwyn | Pennsylvania.
NOVA Bank | Berwyn | Pennsylvania.
Embassy Bank For The Lehigh Valley | Bethlehem | Pennsylvania.
Fidelity S & LA of Bucks Co | Bristol | Pennsylvania.
Bucks County Bank | Doylestown | Pennsylvania.
The Fidelity Deposit and Discount Bank | Dunmore | Pennsylvania.
Lafayette Ambassador Bank | Easton | Pennsylvania.
First Resource Bank | Exton | Pennsylvania.
Fleetwood Bank | Fleetwood | Pennsylvania.
S & T Bank | Indiana | Pennsylvania.
Jonestown Bank and Trust Company | Jonestown | Pennsylvania.
Graystone Tower Bank | Lancaster | Pennsylvania.
Commercial Bank and Trust of Pennsylvania | Latrobe | Pennsylvania.
Susquehanna Bank PA | Lititz | Pennsylvania.
National Bank of Malvern (The) | Malvern | Pennsylvania.
Gateway Bank of Pennsylvania | Mc Murray | Pennsylvania.
Members 1st Federal Credit Union | Mechanicsburg | Pennsylvania.
The First National of Mercersburg | Mercersburg | Pennsylvania.
Swineford National Bank | Middleburg | Pennsylvania.
Juniata Valley Bank | Mifflintown | Pennsylvania.
Mid Penn Bank | Millersburg | Pennsylvania.
Citizens Savings Bank | Mount Pocono | Pennsylvania.
Royal Bank America | Narberth | Pennsylvania.
The Neffs National Bank | Neffs | Pennsylvania.
First National B & T Company of Newtown | Newtown | Pennsylvania.
East River Bank | Philadelphia | Pennsylvania.
Port Richmond Savings | Philadelphia | Pennsylvania.
Ukrainian Selfreliance Federal Credit Union | Philadelphia | Pennsylvania.
Continental Bank | Plymouth Meeting | Pennsylvania.
Earthstar Bank | Southampton | Pennsylvania.
Quaint Oak Bank | Southampton | Pennsylvania.
Citadel Federal Credit Union | Thorndale | Pennsylvania.
TruMark Financial Credit Union | Trevose | Pennsylvania.
The Turbotville National Bank | Turbotville | Pennsylvania.
Penn Liberty Bank | Wayne | Pennsylvania.
Merck, Sharp & Dohme FCU | West Point | Pennsylvania.
Woodlands Bank | Williamsport | Pennsylvania.
Affinity Bank of Pennsylvania | Wyomissing | Pennsylvania.
Berkshire Bank | Wyomissing | Pennsylvania.
STAR USA Federal Credit Union | Charleston | West Virginia.
Boone County Bank, Inc | Madison | West Virginia.
The United Federal Credit Union | Morgantown | West Virginia.
One Community Credit Union | Parkersburg | West Virginia.
Jefferson Security Bank | Shepherdstown | West Virginia.
West Virginia Federal Credit Union | South Charleston | West Virginia.
First Choice America Community FCU | Weirton | West Virginia.
Federal Home Loan Bank of Atlanta—District 4
Compass Bank | Birmingham | Alabama.
Nexity Bank | Birmingham | Alabama.
Oakworth Capital Bank | Birmingham | Alabama.
Red Mountain Bank | Birmingham | Alabama.
Secure First Credit Union | Birmingham | Alabama.
SevisFirst Bank | Birmingham | Alabama.
SouthPoint Bank | Birmingham | Alabama.
First Federal Savings & Loan of Cullman | Cullman | Alabama.
Premier Bank of the South | Cullman | Alabama.
BankSouth | Dothan | Alabama.
MidSouth Bank, N.A | Dothan | Alabama.
First Southern Bank | Florence | Alabama.
Family Savings Credit Union | Gasden | Alabama.
Peoples Trust Bank | Hamilton | Alabama.
First National Bank of Hartford | Hartford | Alabama.
Bank of Walker County | Jasper | Alabama.
Farmers Exchange Bank | Louisville | Alabama.
Listerhill Credit Union | Muscle Shoals | Alabama.
Hometown Bank of Alabama | Oneonta | Alabama.
First Bank of The South | Rainsville | Alabama.
Citizens Bank & Savings Company | Russellville | Alabama.
FNB Bank | Scottsboro | Alabama.
PrimeSouth Bank | Tallassee | Alabama.
Troy Bank & Trust Company | Troy | Alabama.
Citizens State Bank | Vernon | Alabama.
State Bank and Trust | Winfield | Alabama.
IDB-IIC Federal Credit Union | Washington | District of Columbia.
Industrial Bank | Washington | District of Columbia.
Southshore Community Bank | Apollo Beach | Florida.
Paradise Bank | Boca Raton | Florida.
Sun American Bank | Boca Raton | Florida.
First America Bank | Bradenton | Florida.
AmericanFirst Bank | Clermont | Florida.
Sunrise Bank | Cocoa Beach | Florida.
Biscayne Bank | Coconut Grove | Florida.
Gibraltar Bank, FSB | Coral Gables | Florida.
Nature Coast Bank | Crystal River | Florida.
Community Bank of Broward | Dania Beach | Florida.
Mainstreet Community Bank of Florida | Deland | Florida.
Broward Bank of Commerce | Fort Lauderdale | Florida.
FineMark National Bank & Trust | Fort Myers | Florida.
IronStone Bank | Fort Myers | Florida.
Reliance Bank, FSB | Fort Myers | Florida.
Beach Community Bank | Fort Walton Beach | Florida.
First National Bank & Trust | Fort Walton Beach | Florida.
Edison National Bank | Ft. Myers | Florida.
Oculina Bank (The) | Ft. Pierce | Florida.
Merchants and Southern Bank | Gainesville | Florida.
American Enterprise Bank of Florida | Jacksonville | Florida.
EverBank | Jacksonville | Florida.
First Bank of Jacksonville | Jacksonville | Florida.
First Florida Credit Union | Jacksonville | Florida.
Keys Federal Credit Union | Key West | Florida.
Achieva Credit Union | Largo | Florida.
Panther Community Bank, N.A | Lehigh Acres | Florida.
City County Credit Union of Fort Lauderdale | Margate | Florida.
Lafayette State Bank | Mayo | Florida.
Florida Bus Bank | Melbourne | Florida.
Prime Bank | Melbourne | Florida.
Continental National Bank of Miami | Miami | Florida.
Dade County Federal Credit Union | Miami | Florida.
Espirito Santo Bank | Miami | Florida.
Great Florida Bank | Miami | Florida.
U.S. Century Bank | Miami | Florida.
Partners Bank | Naples | Florida.
Alarion Bank | Ocala | Florida.
Community Bank and Trust of Florida | Ocala | Florida.
Lydian Private Bank | Palm Beach Gardens | Florida.
Intracoastal Bank | Palm Coast | Florida.
Manatee River Community Bank | Palmetto | Florida.
Tyndall Federal Credit Union | Panama City | Florida.
Vision Bank | Panama City | Florida.
Coastal Community Bank | Panama City Beach | Florida.
Bank of Pensacola | Pensacola | Florida.
Florida Shores Bank—Southeast | Pompano Beach | Florida.
Freedom Bank of America | Saint Petersburg | Florida.
Synovus Bank of Tampa Bay | Saint Petersburg | Florida.
Prime Meridian Bank | Tallahassee | Florida.
Bank of Florida—Tampa Bay | Tampa | Florida.
Pilot Bank | Tampa | Florida.
Suncoast Schools Federal Credit Union | Tampa | Florida.
Tampa Bay Federal Credit Union | Tampa | Florida.
Patriot Bank | Trinity | Florida.
Bank of Venice (The) | Venice | Florida.
First Choice Credit Union | West Palm Beach | Florida.
Flagler Bank | West Palm Beach | Florida.
CenterState Bank of Florida, NA | Winter Haven | Florida.
Northwest Bank and Trust Company | Acworth | Georgia.
Atlanta Business Bank | Atlanta | Georgia.
Cads Federal Credit Union | Atlanta | Georgia.
First National Bank of Decatur County | Bainbridge | Georgia.
First State Bank of Blakely | Blakely | Georgia.
Hamilton State Bank | Braselton | Georgia.
Hometown Community Bank | Braselton | Georgia.
Peoples Community National Bank | Bremen | Georgia.
Oglethorpe Bank | Brunswick | Georgia.
North Georgia National Bank | Calhoun | Georgia.
Flint River National Bank | Camilla | Georgia.
First National Bank of Polk City | Cedartown | Georgia.
Habersham Bank | Clarkesville | Georgia.
Southern Bank and Trust | Clarkesville | Georgia.
Mountain Valley Community Bank | Cleveland | Georgia.
First Madison Bank &Trust | Colbert | Georgia.
Community Business Bank | Cumming | Georgia.
Southeastern Bank | Darien | Georgia.
First Commerce Community Bank | Douglasville | Georgia.
Georgia Central Credit Union | Duluth | Georgia.
New Horizons Bank | East Ellijay | Georgia.
Bank of Ellijay | Ellijay | Georgia.
1st Georgia Banking Company | Franklin | Georgia.
Gordon Bank (The) | Gordon | Georgia.
Piedmont Community Bank | Gray | Georgia.
Citizens Community Bank | Hahira | Georgia.
Community Capital Bank | Jonesboro | Georgia.
Legacy State Bank | Loganville | Georgia.
Highland Commercial Bank | Marietta | Georgia.
Century Bank and Trust | Milledgeville | Georgia.
The Patterson Bank | Patterson | Georgia.
Pelham Banking Company | Pelham | Georgia.
The Bank of Perry | Perry | Georgia.
Community Bank of Rockmart | Rockmart | Georgia.
American Trust Bank | Roswell | Georgia.
George D. Warthen Bank | Sandersville | Georgia.
The Savannah Bank, N.A | Savannah | Georgia.
Farmers & Merchants Community Bank | Senoia | Georgia.
High Trust Bank | Stockbridge | Georgia.
Republic Bank of Georgia | Suwanee | Georgia.
The Park Avenue Bank | Valdosta | Georgia.
Oconee State Bank | Watkinsville | Georgia.
The First National Bank of Waynesboro | Waynesboro | Georgia.
PlantersFirst | Hawkinsville | Georgia.
Aberdeen Proving Ground | Aberdeen | Maryland.
BankAnnapolis | Annapolis | Maryland.
First Mariner Bank | Baltimore | Maryland.
Fullerton Federal Savings Association | Baltimore | Maryland.
Kosciuszko Federal Savings Bank | Baltimore | Maryland.
Midstate Federal Savings and Loan | Baltimore | Maryland.
The John Hopkins Federal Credit Union | Baltimore | Maryland.
Educational Systems Employees F.C.U | Bladensburg | Maryland.
The Washington Savings Bank, FSB | Bowie | Maryland.
Bank of the Eastern Shore | Cambridge | Maryland.
The Centreville National Bank of Maryland | Centreville | Maryland.
The Columbia Bank | Columbia | Maryland.
First Peoples Community F.C.U | Cumberland | Maryland.
Damascus Community Bank | Damascus | Maryland.
Freedom of Maryland F.C.U | Aberdeen Proving Ground | Maryland.
Howard Bank | Ellicott City | Maryland.
Montgomery County Teachers FCU | Gaithersburg | Maryland.
The Bank of Glen Burnie | Glen Burnie | Maryland.
Washington Telephone Federal Credit Union | Kensington | Maryland.
Sandy Spring Bank | Olney | Maryland.
Cedar Point Federal Credit Union | Patuxent River | Maryland.
Congressional Bank | Potomac | Maryland.
Capital Bank NA | Rockville | Maryland.
Energy Federal Credit Union | Rockville | Maryland.
Harvest Bank of Maryland | Rockville | Maryland.
National Institute of Health FCU | Rockville | Maryland.
Maryland Financial Bank | Towson | Maryland.
Prince George's Federal Savings Bank | Upper Marlboro | Maryland.
Farmers Bank of Willards (The) | Willards | Maryland.
Belmont FS & LA | Belmont | North Carolina.
Black Mountain Savings Bank, S.S.B | Black Mountain | North Carolina.
Mid-Carolina Bank | Burlington | North Carolina.
Bank of Commerce | Charlotte | North Carolina.
Latino Community Credit Union | Durham | North Carolina.
Nantahala Bank & Trust Company | Franklin | North Carolina.
Alliance Bank Trust Co | Gastonia | North Carolina.
Carolina Commerce Bank | Gastonia | North Carolina.
Citizens South Bank | Gastonia | North Carolina.
Premier Federal Credit Union | Greensboro | North Carolina.
Parkway Bank | Lenoir | North Carolina.
Coastal Federal Credit Union | Raleigh | North Carolina.
Greystone Bank | Raleigh | North Carolina.
North State Bank | Raleigh | North Carolina.
New Republic Savings Bank | Roanoke Rapids | North Carolina.
Providence Bank | Rocky Mount | North Carolina.
Security Savings Bank, SSB | Southport | North Carolina.
Bank of North Carolina | Thomasville | North Carolina.
AF Bank | West Jefferson | North Carolina.
Southern Community Bank & Trust | Winston-Salem | North Carolina.
Select Bank & Trust Company | Winterville | North Carolina.
Carolina Bank & Trust Company | Bennettsville | South Carolina.
First Capital Bank | Bennettsville | South Carolina.
Atlantic Bank & Trust | Charleston | South Carolina.
Carolina Federal Savings Bank | Charleston | South Carolina.
Clover Community Bank | Clover | South Carolina.
BankMeridian, National Association | Columbia | South Carolina.
First Citizens Bank and Trust Company, Inc | Columbia | South Carolina.
South Carolina Community Bank | Columbia | South Carolina.
The National Bank of South Carolina | Columbia | South Carolina.
Darlington County Bank | Darlington | South Carolina.
CommunitySouth Bank and Trust | Easley | South Carolina.
The Peoples National Bank | Easley | South Carolina.
Carolina First Bank | Greenville | South Carolina.
Independence National Bank | Greenville | South Carolina.
Heritage Community Bank | Hartsville | South Carolina.
Coastal States Bank | Hilton Head | South Carolina.
Harbourside Community Bank | Hilton Head | South Carolina.
Williamsburg First National Bank | Kingstree | South Carolina.
Tidelands Bank | Mount Pleasant | South Carolina.
Palmetto Heritage Bank & Trust | Pawleys Island | South Carolina.
Arthur State Bank | Union | South Carolina.
Provident Community Bank, NA | Union | South Carolina.
Burke & Herbert Bank & Trust Company | Alexandria | Virginia.
Common Wealth One Federal C.U | Alexandria | Virginia.
Hew Federal Credit Union | Alexandria | Virginia.
United States Senate FCU | Alexandria | Virginia.
The First National Bank of Altavista | Altavista | Virginia.
Arlington Virginia Federal Credit Union | Arlington | Virginia.
Union Bank & Trust Company | Bowling Green | Virginia.
Sonabank, N.A | Charlottesville | Virginia.
URW Community Federal Credit Union | Danville | Virginia.
Peoples Bank (The) | Ewing | Virginia.
United Bank | Fairfax | Virginia.
Security One Bank | Falls Church | Virginia.
Franklin Federal Savings & Loan Association of Richmond | Glen Allen | Virginia.
MainStreet Bank | Herndon | Virginia.
The Page Valley Bank | Luray | Virginia.
Central Virginia Federal Credit Union | Lynchburg | Virginia.
Smith River Community Bank, NA | Martinsville | Virginia.
The Bank of McKenney | McKenney | Virginia.
Bank of Virginia | Midlothian | Virginia.
Virginia Company Bank | Newport News | Virginia.
Northern Star Credit Union, Inc | Portsmouth | Virginia.
Greater Atlantic Bank | Reston | Virginia.
WashingtonFirst Bank | Reston | Virginia.
First Market Bank FSB | Richmond | Virginia.
HomeTown Bank | Roanoke | Virginia.
Member One Federal Credit Union | Roanoke | Virginia.
SuffolkFirst Bank | Suffolk | Virginia.
Farmers and Merchants Bank | Timberville | Virginia.
The Business Bank | Vienna | Virginia.
Bank @LANTEC | Virginia Beach | Virginia.
The Rappahannock NB of Washington | Washington | Virginia.
DuPont Community Credit Union | Waynesboro | Virginia.
Federal Home Loan Bank of Cincinnati—District 5
Community Financial Services Bank | Benton | Kentucky.
Taylor County Bank | Cambellsville | Kentucky.
The First National Bank of Carrollton | Carrollton | Kentucky.
The Cecilian Bank | Cecilia | Kentucky.
United Citizens Bank of Southern Kentucky | Columbia | Kentucky.
First Federal Savings Bank of Elizabethtown | Elizabethtown | Kentucky.
Commonwealth Credit Union | Frankfort | Kentucky.
Kentucky Employees Credit Union | Frankfort | Kentucky.
Commonwealth Community Bank | Hartford | Kentucky.
1st Trust Bank, Inc | Hazard | Kentucky.
The Citizens Bank | Hickman | Kentucky.
Lincoln National Bank | Hodgenville | Kentucky.
The First State Bank | Irvington | Kentucky.
Kue Federal Credit Union | Lexington | Kentucky.
Whitaker Bank | Lexington | Kentucky.
Cumberland Valley NB&T Company | London | Kentucky.
Inez Deposit Bank, FSB | Louisa | Kentucky.
Kemba Louisville Credit Union | Louisville | Kentucky.
Louchem Federal Credit Union | Louisville | Kentucky.
River City Bank | Louisville | Kentucky.
Magnolia Bank, Incorporated | Magnolia | Kentucky.
The First National Bank of Manchester | Manchester | Kentucky.
First Kentucky Bank Inc | Mayfield | Kentucky.
Farmers Deposit Bank Of Middleburg | Middleburg | Kentucky.
The Murray Bank Fsb | Murray | Kentucky.
Citizens National Bank of Paintsville | Paintsville | Kentucky.
West Point Bank | Radcliff | Kentucky.
The Fib of Russell Springs | Russell Springs | Kentucky.
Sebree Deposit Bank | Sebree | Kentucky.
The Peoples Bank Of Bullitt County | Shepherdsville | Kentucky.
Peoples Bank | Taylorsville | Kentucky.
Citizens Commerce National Bank | Versailles | Kentucky.
United Bank & Trust Company | Versailles | Kentucky.
Alliance Banking Company | Winchester | Kentucky.
BFG Federal Credit Union | Akron | Ohio.
Farmers & Merchants State Bank | Archbold | Ohio.
The Citizens Bank Of Ashville | Ashville | Ohio.
Ohio University Credit Union | Athens | Ohio.
Baltic State Bank | Baltic | Ohio.
Bartlett Farmers Bank | Bartlett | Ohio.
Ohio Commerce Bank | Beachwood | Ohio.
Reward One Credit Union | Brook Park | Ohio.
Community Savings | Caldwell | Ohio.
Cinco Credit Union Inc | Cincinnati | Ohio.
New Horizons Credit Union, Inc | Cincinnati | Ohio.
Ohio Valley Community Credit Union | Clarington | Ohio.
Century Federal Credit Union | Cleveland | Ohio.
KeyBank, National Association | Cleveland | Ohio.
The Pioneer Savings Bank | Cleveland | Ohio.
Clyde-Findlay Area Credit Union | Clyde | Ohio.
Columbus Metro Federal Credit Union | Columbus | Ohio.
Guernsey Bank | Columbus | Ohio.
Members First Credit Union | Columbus | Ohio.
MidState Educators Credit Union | Columbus | Ohio.
Nationwide Bank | Columbus | Ohio.
Western Credit Union, Inc | Columbus | Ohio.
First Federal Savings & Loan Association | Delta | Ohio.
Emerald Bank | Dublin | Ohio.
Croghan Colonial Bank (The) | Fremont | Ohio.
Powerco Credit Union | Gahanna | Ohio.
First Federal Savings & Loan Association | Galion | Ohio.
First Service FCU | Groveport | Ohio.
Hardin Community Federal Credit Union | Kenton | Ohio.
Day Air Credit Union | Kettering | Ohio.
The Killbuck Savings Bank | Killbuck | Ohio.
Standing Stone National Bank | Lancaster | Ohio.
Marblehead Bank (The) | Marblehead | Ohio.
Marion Community Credit Union | Marion | Ohio.
Bank of Maumee | Maumee | Ohio.
The First National Bank of McConnelsville | McConnelsville | Ohio.
Lake National Bank | Mentor | Ohio.
River Valley Credit Union | Miamisburg | Ohio.
CES Credit Union, Inc | Mount Vernon | Ohio.
Fiberglas Federal Credit Union | Newark | Ohio.
Miami University Community FCU | Oxford | Ohio.
Desco Federal Credit Union | Portsmouth | Ohio.
The FNB of Powhatan Point | Powhatan Point | Ohio.
Park View Federal Savings Bank | Solon | Ohio.
The Farmers Savings Bank | Spencer | Ohio.
The Old Fort Banking Company | Tiffin | Ohio.
First Place Bank | Warren | Ohio.
Seven Seventeen Credit Union | Warren | Ohio.
Atomic Employees Credit Union, Inc | Waverly | Ohio.
The First National Bank of Wellston | Wellston | Ohio.
Twin Valley Bank | West Alexandria | Ohio.
Wayne Savings Community Bank | Wooster | Ohio.
Alcoa Tennessee Federal Credit Union | Alcoa | Tennessee.
Insouth Bank | Brownsville | Tennessee.
Cohutta Banking Company | Chattanooga | Tennessee.
FSGBANK, NA | Chattanooga | Tennessee.
First Federal Savings Bank | Clarksville | Tennessee.
Peoples Bank | Clifton | Tennessee.
Bank Of Dickson | Dickson | Tennessee.
Sumner Bank & Trust | Gallatin | Tennessee.
First Capital Bank | Germantown | Tennessee.
Greeneville Federal Bank, FSB | Greeneville | Tennessee.
Heritage Community Bank | Greeneville | Tennessee.
Citizens Bank | Hartsville | Tennessee.
American Security Bank & Trust Company | Hendersonville | Tennessee.
Leaders Credit Union | Jackson | Tennessee.
Community Bank of the Cumberlands | Jamestown | Tennessee.
Eastman Credit Union | Kingsport | Tennessee.
American Trust Bank of East Tennessee | Knoxville | Tennessee.
BankEast | Knoxville | Tennessee.
Knoxville TVA Employees Credit Union | Knoxville | Tennessee.
UT Federal Credit Union | Knoxville | Tennessee.
Citizens Bank of Lafayette | Lafayette | Tennessee.
Peoples Bank of the South | LaFollette | Tennessee.
First National Bank | Lenoir City | Tennessee.
First Commerce Bank | Lewisburg | Tennessee.
Peoples Bank & Trust Company | Manchester | Tennessee.
Citizens Bank Of Blount County | Maryville | Tennessee.
Homeland Community Bank | McMinnville | Tennessee.
The First National Bank-McMinnville | McMinnville | Tennessee.
Landmark Community Bank | Memphis | Tennessee.
Magna Bank | Memphis | Tennessee.
Community National Bank of the Lakeway Area | Morristown | Tennessee.
Bank of Fayette County | Moscow | Tennessee.
MidSouth Bank | Murfreesboro | Tennessee.
CapStar Bank | Nashville | Tennessee.
Civic Bank & Trust | Nashville | Tennessee.
InsBank | Nashville | Tennessee.
Nashville Bank and Trust Company | Nashville | Tennessee.
Southeast Financial Federal Credit Union | Nashville | Tennessee.
Security Bank | Newbern | Tennessee.
Ornl Federal Credit Union | Oak Ridge | Tennessee.
Volunteer State Bank | Portland | Tennessee.
Merchants & Planters Bank | Toone | Tennessee.
Ascend Federal Credit Union | Tullahoma | Tennessee.
The Bank of Tullahoma | Tullahoma | Tennessee.
First Volunteer Bank | Union City | Tennessee.
Federal Home Loan Bank of Indianapolis—District 6
Members Choice Federal Credit Union | Bloomington | Indiana.
Community State Bank | Brook | Indiana.
Hendricks County Bank & Trust Co | Brownsburg | Indiana.
State Bank Burnettsville | Burnettsville | Indiana.
First Savings Bank, FSB | Clarksville | Indiana.
First Farmers Bank & Trust Co | Converse | Indiana.
Bank of Indiana, National Association | Dana | Indiana.
Dupont State Bank | DuPont | Indiana.
Elkhart Community Bank | Elkhart | Indiana.
Evansville Federal Credit Union | Evansville | Indiana.
Evansville Teachers Federal Credit Union | Evansville | Indiana.
Pinnacle Credit Union | Fort Wayne | Indiana.
Professional Federal Credit Union | Fort Wayne | Indiana.
STAR Financial Bank | Fort Wayne | Indiana.
Springs Valley Bank & Trust Co | French Lick | Indiana.
The Garrett State Bank | Garrett | Indiana.
Griffith Savings Bank | Griffith | Indiana.
Eli Lilly Federal Credit Union | Indianapolis | Indiana.
First Internet Bank of Indiana | Indianapolis | Indiana.
Indiana Members Credit Union | Indianapolis | Indiana.
German American Bancorp | Jasper | Indiana.
Dearborn Savings Bank | Lawrenceburg | Indiana.
Farmers State Bank of Warsaw | Mentone | Indiana.
Members Advantage Credit Union | Michigan City | Indiana.
Citizens Bank | Mooresville | Indiana.
North Salem State Bank | North Salem | Indiana.
Ossian State Bank | Ossian | Indiana.
First State Bank Of Porter | Porter | Indiana.
Tri-County Bank & Trust Company | Roachdale | Indiana.
Central Bank | Russiaville | Indiana.
Advance Financial Federal Credit Union | Schererville | Indiana.
Teachers Credit Union | South Bend | Indiana.
The Home National Bank | Thorntown | Indiana.
Ann Arbor State Bank | Ann Arbor | Michigan.
University Bank | Ann Arbor | Michigan.
University of Michigan Credit Union | Ann Arbor | Michigan.
Cornerstone Community Financial FCU | Auburn Hills | Michigan.
Genisys Credit Union | Auburn Hills | Michigan.
FinancialEdge Community Credit Union | Bay City | Michigan.
Gogebic Range Bank | Bessemer | Michigan.
The Blissfield State Bank | Blissfield | Michigan.
Private Bank | Bloomfield Hills | Michigan.
ELGA Credit Union | Burton | Michigan.
Byron Bank | Byron Center | Michigan.
CSB BANK | Capac | Michigan.
Exchange State Bank | Carsonville | Michigan.
Citizens National Bank of Cheboygan | Cheboygan | Michigan.
Central Macomb Community Credit Union | Clinton Township | Michigan.
First National Bank of Crystal Falls | Crystal Falls | Michigan.
First State Bank Of East Detroit | Eastpointe | Michigan.
Upper Peninsula State Bank | Escanaba | Michigan.
The State Savings Bank | Frankfort | Michigan.
West Michigan Bank & Trust | Frankfort | Michigan.
Superior National B&T Company | Hancock | Michigan.
First Community Bank | Harbor Springs | Michigan.
First National Bank in Howell | Howell | Michigan.
mBank | Manistique | Michigan.
G.W. Jones Exchange Bank | Marcellus | Michigan.
Chemical Bank | Midland | Michigan.
Monroe Bank & Trust | Monroe | Michigan.
Isabella Bank | Mount Pleasant | Michigan.
St. Francis X Federal Credit Union | Petoskey | Michigan.
Chief Pontiac Federal Credit Union | Pontiac | Michigan.
E & A Credit Union | Port Huron | Michigan.
1st State Bank | Saginaw | Michigan.
Catholic Federal Credit Union | Saginaw | Michigan.
Shelby State Bank | Shelby | Michigan.
Choiceone Bank | Sparta | Michigan.
Berrien Teachers Credit Union | St. Joseph | Michigan.
Traverse City State Bank | Traverse City | Michigan.
Bestsource Credit Union | Waterford | Michigan.
Federal Home Loan Bank of Chicago—District 7
First Trust & Savings Bank of Albany, Illinois | Albany | Illinois.
Algonquin State Bank, N.A | Algonquin | Illinois.
Farmers State Bank of Alto Pass, Illinois | Alto Pass | Illinois.
State Bank of the Lakes | Antioch | Illinois.
The Peoples Bank of Arlington Heights | Arlington Heights | Illinois.
State Bank of Arthur | Arthur | Illinois.
First National Bank of Ava | Ava | Illinois.
Bank of Belleville | Belleville | Illinois.
Olin Community Credit Union | Bethalto | Illinois.
State Farm Bank, F.S.B | Bloomington | Illinois.
MidAmerica National Bank | Canton | Illinois.
The First National Bank of Carmi | Carmi | Illinois.
University of Illinois Employees Credit Union | Champaign | Illinois.
Alliant Credit Union | Chicago | Illinois.
American Union Savings and Loan Association, S.B | Chicago | Illinois.
Archer Bank | Chicago | Illinois.
Belmont Bank & Trust Company | Chicago | Illinois.
Builders Bank | Chicago | Illinois.
Chicago Community Bank | Chicago | Illinois.
Cole Taylor Bank | Chicago | Illinois.
Devon Bank | Chicago | Illinois.
Harris National Association | Chicago | Illinois.
International Bank of Chicago | Chicago | Illinois.
Metropolitan Capital Bank | Chicago | Illinois.
Park Federal Savings Bank | Chicago | Illinois.
The National Republic Bank of Chicago | Chicago | Illinois.
Cissna Park State Bank | Cissna Park | Illinois.
State Bank Davis | Davis | Illinois.
The First National Bank of Dwight | Dwight | Illinois.
National Bank of Earlville | Earlville | Illinois.
First Choice Bank | Geneva | Illinois.
The First National Bank of Grand Ridge | Grand Ridge | Illinois.
National Bank | Hillsboro | Illinois.
Hinsdale Bank & Trust Company | Hinsdale | Illinois.
Farmers State Bank of Hoffman | Hoffman | Illinois.
Community Trust Bank | Irvington | Illinois.
First Midwest Bank | Itasca | Illinois.
Southern Illinois Bank | Johnston City | Illinois.
First Community Bank of Joliet | Joliet | Illinois.
Kenney Bank and Trust | Kenney | Illinois.
Lake Forest Bank and Trust Company | Lake Forest | Illinois.
Lena State Bank | Lena | Illinois.
Peoples National Bank, N.A | Mcleansboro | Illinois.
Milledgeville State Bank | Milledgeville | Illinois.
Bank of Modesto | Modesto | Illinois.
Midwest Bank of Western Illinois | Monmouth | Illinois.
Community First Bank of the Heartland | Mount Vernon | Illinois.
Prairie State Bank and Trust | Mount Zion | Illinois.
Hawthorne Credit Union | Naperville | Illinois.
The Farmers and Merchants N.B. of Nashville | Nashville | Illinois.
State Bank of Niantic | Niantic | Illinois.
Bank of Illinois | Normal | Illinois.
Oswego Community Bank | Oswego | Illinois.
Palos Bank and Trust Company | Palos Heights | Illinois.
Citizens Equity First Credit Union | Peoria | Illinois.
Farmers State Bank | Pittsfield | Illinois.
First Bankers Trust Company, National Association | Quincy | Illinois.
The First National Bank of Raymond | Raymond | Illinois.
Amcore Bank, National Association | Rockford | Illinois.
Riverside Community Bank | Rockford | Illinois.
Rockford Bank and Trust Company | Rockford | Illinois.
1st Equity Bank | Skokie | Illinois.
American Eagle Bank | South Elgin | Illinois.
Providence Bank, LLC | South Holland | Illinois.
Valley Community Bank | St. Charles | Illinois.
Prairie National Bank | Stewardson | Illinois.
American Heartland Bank and Trust | Sugar Grove | Illinois.
Texico State Bank | Texico | Illinois.
First Neighbor Bank, N.A | Toledo | Illinois.
Busey Bank | Urbana | Illinois.
North Adams State Bank | Ursa | Illinois.
First State Bank of Van Orin | Van Orin | Illinois.
The First Trust and Savings Bank of Watseka, Illinois | Watseka | Illinois.
Dupage National Bank | West Chicago | Illinois.
Bank of Alma | Alma | Wisconsin.
Fox Communities Credit Union | Appleton | Wisconsin.
The Business Bank | Appleton | Wisconsin.
Unity Bank | Augusta | Wisconsin.
The First National Bank and Trust Company | Beloit | Wisconsin.
Benton State Bank | Benton | Wisconsin.
The Farmers & Merchants Bank | Berlin | Wisconsin.
Fox River State Bank | Burlington | Wisconsin.
Citizens State Bank | Cadott | Wisconsin.
Citizens State Bank of Clayton | Clayton | Wisconsin.
Collins State Bank | Collins | Wisconsin.
Denmark State Bank | Denmark | Wisconsin.
Advantage Community Bank | Dorchester | Wisconsin.
Security Financial Bank | Durand | Wisconsin.
Union Bank & Trust Company | Evansville | Wisconsin.
Associated Bank, National Association | Green Bay | Wisconsin.
Farmers and Merchants Bank of Kendall | Kendall | Wisconsin.
Southport Bank | Kenosha | Wisconsin.
Altra Federal Credit Union | La Crosse | Wisconsin.
State Bank Financial | La Crosse | Wisconsin.
Livingston State Bank | Livingston | Wisconsin.
Capitol Bank | Madison | Wisconsin.
Madison Credit Union | Madison | Wisconsin.
The Park Bank | Madison | Wisconsin.
Premier Community Bank | Marion | Wisconsin.
Bay View Federal Savings and Loan Association | Milwaukee | Wisconsin.
Layton State Bank | Milwaukee | Wisconsin.
North Milwaukee State Bank | Milwaukee | Wisconsin.
Farmers Savings Bank | Mineral Point | Wisconsin.
Alliance Bank | Mondovi | Wisconsin.
The Necedah Bank | Necedah | Wisconsin.
Lakeview Credit Union | Neenah | Wisconsin.
Farmers Exchange Bank | Neshkoro | Wisconsin.
State Bank of Newburg | Newburg | Wisconsin.
Community State Bank | Norwalk | Wisconsin.
Oregon Community Bank & Trust | Oregon | Wisconsin.
Northwoods Community Credit Union | Park Falls | Wisconsin.
Foundations Bank | Pewaukee | Wisconsin.
State Bank of Reeseville | Reeseville | Wisconsin.
Hometown Bank | St. Cloud | Wisconsin.
The Pineries Bank | Stevens Point | Wisconsin.
Timberwood Bank | Tomah | Wisconsin.
Community State Bank | Union Grove | Wisconsin.
Citizens First Bank | Viroqua | Wisconsin.
Waumandee State Bank | Waumandee | Wisconsin.
Integrity First Bank | Wausau | Wisconsin.
Federal Home Loan Bank of Des Moines—District 8
River Valley Credit Union | Ames | Iowa.
First Whitney Bank and Trust | Atlantic | Iowa.
Iowa Bank | Bellevue | Iowa.
Quad City Bank and Trust Company | Bettendorf | Iowa.
Success Bank | Bloomfield | Iowa.
BankIowa | Cedar Rapids | Iowa.
Valley Bank & Trust | Cherokee | Iowa.
Exchange State Bank | Collins | Iowa.
Corridor State Bank | Coralville | Iowa.
American B&T, National Association | Davenport | Iowa.
Bank Iowa | Denison | Iowa.
East Dubuque Savings Bank | Dubuque | Iowa.
Community Bank | Dunlap | Iowa.
Security Savings Bank | Eagle Grove | Iowa.
Central State Bank | Elkader | Iowa.
Employees Credit Union | Estherville | Iowa.
Iowa S.B. and Trust Company of Fairfield, Iowa | Fairfield | Iowa.
Glenwood State Bank | Glenwood | Iowa.
First National Bank | Greenfield | Iowa.
First National Bank of Hampton | Hampton | Iowa.
Citizens Savings Bank | Hawkeye | Iowa.
American National Bank | Holstein | Iowa.
Home State Bank | Jefferson | Iowa.
Security Savings Bank | Larchwood | Iowa.
American Bank, N.A | Le Mars | Iowa.
Malvern Trust & Savings Bank | Malvern | Iowa.
Farmers & Merchants Savings Bank | Manchester | Iowa.
Citizens Savings Bank | Marshalltown | Iowa.
MEMBERS1st Community Credit Union | Marshalltown | Iowa.
Pinnacle Bank | Marshalltown | Iowa.
First Citizens National Bank | Mason City | Iowa.
Northwoods State Bank | Mason City | Iowa.
First State Bank | Nashua | Iowa.
Raccoon Valley Bank | Perry | Iowa.
Pilot Grove Savings Bank | Pilot Grove | Iowa.
Frontier Bank | Rock Rapids | Iowa.
Citizens State Bank | Sheldon | Iowa.
The First National Bank of Farragut | Shenandoah | Iowa.
Pinnacle Bank Sioux City | Sioux City | Iowa.
Community State Bank | Spencer | Iowa.
MetaBank | Storm Lake | Iowa.
Security Trust & Savings Bank | Storm Lake | Iowa.
Walcott Trust and Savings Bank | Walcott | Iowa.
First Bank | West Des Moines | Iowa.
The First National Bank of West Union | West Union | Iowa.
THE National Bank | Moline | Illinois.
Security Bank Minnesota | Albert Lea | Minnesota.
Community Bank, Austin | Austin | Minnesota.
Avon State Bank | Avon | Minnesota.
KleinBank | Big Lake | Minnesota.
Bridgewater Bank | Bloomington | Minnesota.
United Bankers' Bank | Bloomington | Minnesota.
Rural American Bank | Braham | Minnesota.
Mid Minnesota Federal Credit Union | Brainerd | Minnesota.
First National Bank of Buhl | Buhl | Minnesota.
First Security Bank | Byron | Minnesota.
Community Bank Corporation | Chaska | Minnesota.
Members Cooperative Credit Union | Cloquet | Minnesota.
The First National Bank of Cold Spring | Cold Spring | Minnesota.
Choice Financial Savings Bank | Comfrey | Minnesota.
Midwest Bank | Detroit Lakes | Minnesota.
Duluth Teachers Credit Union | Duluth | Minnesota.
Crown Bank | Edina | Minnesota.
Tradition Capital Bank | Edina | Minnesota.
American State Bank of Erskine | Erskine | Minnesota.
The Miners National Bank of Eveleth | Eveleth | Minnesota.
Reliance Bank | Faribault | Minnesota.
Falcon National Bank | Foley | Minnesota.
Glenwood State Bank | Glenwood | Minnesota.
Granite Falls Bank | Granite Falls | Minnesota.
Prime Security Bank | Karlstad | Minnesota.
First State Bank of Kensington | Kensington | Minnesota.
Financial Security Bank | Kerkhoven | Minnesota.
Lakeview Bank | Lakeville | Minnesota.
Lowry State Bank | Lowry | Minnesota.
Premier Bank | Maplewood | Minnesota.
Gateway Bank | Mendota Heights | Minnesota.
Equity Bank | Minnetonka | Minnesota.
Signature Bank | Minnetonka | Minnesota.
State Bank of New Richland | New Richland | Minnesota.
Ormsby State Bank | Ormsby | Minnesota.
State Bank of Park Rapids | Park Rapids | Minnesota.
The Citizens National Bank of Park Rapids | Park Rapids | Minnesota.
Peoples State Bank of Plainview | Plainview | Minnesota.
First Alliance Credit Union | Rochester | Minnesota.
Minnwest Bank Metro | Rochester | Minnesota.
BankCherokee | Saint Paul | Minnesota.
Pinehurst Bank | Saint Paul | Minnesota.
First Security Bank—Sleepy Eye | Sleepy Eye | Minnesota.
The First National Bank in Wadena | Wadena | Minnesota.
Wadena State Bank | Wadena | Minnesota.
Plaza Park State Bank | Waite Park | Minnesota.
First Financial Bank in Winnebago | Winnebago | Minnesota.
Adrian Bank | Adrian | Missouri.
Peoples Bank of Altenburg | Altenburg | Missouri.
Arsenal Credit Union | Arnold | Missouri.
Bank of Birch Tree | Birch Tree | Missouri.
Bank of Bloomsdale | Bloomsdale | Missouri.
Bank of Bolivar | Bolivar | Missouri.
Mid-Missouri Bank | Bolivar | Missouri.
Branson Bank | Branson | Missouri.
Focus Bank | Charleston | Missouri.
First Community Credit Union | Chesterfield | Missouri.
St. Louis Bank | Chesterfield | Missouri.
Providence Bank | Columbia | Missouri.
Peoples Bank | Cuba | Missouri.
Reliance Bank | Des Peres | Missouri.
Century Bank of the Ozarks | Gainesville | Missouri.
Garden City Bank | Garden City | Missouri.
Tri-County Trust Company | Glasgow | Missouri.
Hamilton Bank (The) | Hamilton | Missouri.
Bank of Houston (The) | Houston | Missouri.
First Financial Credit Union | Jefferson City | Missouri.
Mid America Bank | Jefferson City | Missouri.
Premier Bank | Jefferson City | Missouri.
H&R Block Bank | Kansas City | Missouri.
American Trust Bank | Kirksville | Missouri.
Lone Summit Bank | Lake Lotawana | Missouri.
B & L Bank | Lexington | Missouri.
The Bank of Macks Creek | Macks Creek | Missouri.
Southern Missouri Bank of Marshfield | Marshfield | Missouri.
United Credit Union | Mexico | Missouri.
Bank of Minden | Minden | Missouri.
Bank of Cairo and Moberly | Moberly | Missouri.
RCSBank | New London | Missouri.
West Community Credit Union | O'Fallon | Missouri.
St. Clair County State Bank | Osceola | Missouri.
Bank of Missouri | Perryville | Missouri.
Platte Valley Bank of Missouri | Platte City | Missouri.
Wells Bank of Platte City | Platte City | Missouri.
Sterling Bank | Poplar Bluff | Missouri.
Citizens Bank of Newburg | Rolla | Missouri.
Health Care Family Credit Union | Saint Louis | Missouri.
1st Advantage Bank | Saint Peters | Missouri.
Central Bank of Missouri | Sedalia | Missouri.
Citizens National Bank of Springfield | Springfield | Missouri.
Great Southern Bank | Springfield | Missouri.
OakStar Bank, National Association | Springfield | Missouri.
Concord Bank | St. Louis | Missouri.
Edward Jones Trust Company | St. Louis | Missouri.
Heartland Bank | St. Louis | Missouri.
TIAA-CREF Trust Company, FSB | St. Louis | Missouri.
First Security Bank | Union Star | Missouri.
Putnam County State Bank | Unionville | Missouri.
Bank of Versailles (The) | Versailles | Missouri.
Community First National Bank of West Plains | West Plains | Missouri.
Union Bank (The) | Beulah | North Dakota.
Capital Credit Union | Bismarck | North Dakota.
American Federal Bank | Fargo | North Dakota.
Gate City Bank | Fargo | North Dakota.
State Bank & Trust | Fargo | North Dakota.
VISIONBank | Fargo | North Dakota.
Dakota Community Bank, National Association | Hebron | North Dakota.
United Community Bank of North Dakota | Leeds | North Dakota.
First State Bank of Sharon | Sharon | North Dakota.
State Bank of Alcester | Alcester | South Dakota.
First Midwest Bank | Centerville | South Dakota.
Great Plains Bank | Eureka | South Dakota.
Farmers State Bank | Faith | South Dakota.
Farmers & Merchants State Bank | Iroquois | South Dakota.
First Bank & Trust of Milbank | Milbank | South Dakota.
Black Hills Federal Credit Union | Rapid City | South Dakota.
Highmark Federal Credit Union | Rapid City | South Dakota.
Heartland State Bank | Redfield | South Dakota.
First Bank & Trust | Sioux Falls | South Dakota.
Minnwest Bank Sioux Falls | Sioux Falls | South Dakota.
Peoples State Bank | Summit | South Dakota.
First National Bank of Volga | Volga | South Dakota.
First State Bank of Warner | Warner | South Dakota.
Federal Home Loan Bank of Dallas—District 9
The First National Bank in Blytheville | Blytheville | Arkansas.
First Federal Bank | Harrison | Arkansas.
Simmons First Bank of Hot Springs | Hot Springs | Arkansas.
Arkansas Federal Credit Union | Jacksonville | Arkansas.
Simmons First Bank Jonesboro | Jonesboro | Arkansas.
The Peoples Bank | Magnolia | Arkansas.
First Delta Bank | Marked Tree | Arkansas.
McGehee Bank | McGehee | Arkansas.
Petit Jean State Bank | Morrilton | Arkansas.
Home Bank of Arkansas | Portland | Arkansas.
Simmons First Bank | Russellville | Arkansas.
Warren Bank & Trust Company | Warren | Arkansas.
Campus Federal Credit Union | Baton Rouge | Louisiana.
First National Banker's Bank | Baton Rouge | Louisiana.
Mississippi River Bank | Belle Chasse | Louisiana.
Citizens Savings Bank | Bogalusa | Louisiana.
Farmers-Merchants Bank & Trust Company | Breaux Bridge | Louisiana.
Colfax Banking Company | Colfax | Louisiana.
Homeland Federal Savings Bank | Columbia | Louisiana.
The Cottonport Bank | Cottonport | Louisiana.
Citizens Bank & Trust Company | Covington | Louisiana.
First National Bank in DeRidder | DeRidder | Louisiana.
Bank of Greensburg | Greensburg | Louisiana.
First Guaranty Bank | Hammond | Louisiana.
The Bank | Jennings | Louisiana.
Southern Heritage Bank | Jonesville | Louisiana.
Vernon Bank (The) | Leesville | Louisiana.
Peoples State Bank | Many | Louisiana.
Marion State Bank | Marion | Louisiana.
Metairie Bank and Trust Company | Metairie | Louisiana.
Ouachita Independent Bank | Monroe | Louisiana.
City Bank & Trust Co | Natchitoches | Louisiana.
First Bank & Trust | New Orleans | Louisiana.
American Bank & Trust Company | Opelousas | Louisiana.
Aneca Federal Credit Union | Shreveport | Louisiana.
Louisiana Delta Bank | Vidalia | Louisiana.
Franklin State Bank & Trust Company | Winnsboro | Louisiana.
Bank of Anguilla | Anguilla | Mississippi.
Guaranty Bank & Trust Company | Belzoni | Mississippi.
Heritage Banking Group | Carthage | Mississippi.
Covenant Bank | Clarksdale | Mississippi.
First National Bank of Clarksdale | Clarksdale | Mississippi.
Bank of Forest | Forest | Mississippi.
Hancock Bank | Gulfport | Mississippi.
Hope Community Credit Union | Jackson | Mississippi.
Merchants & Farmers Bank | Kosciusko | Mississippi.
Holmes County Bank & Trust Company | Lexington | Mississippi.
PriorityOne Bank | Magee | Mississippi.
Navigator Credit Union | Pascagoula | Mississippi.
First National Bank of Picayune | Picayune | Mississippi.
Mississippi National Banker's Bank | Ridgeland | Mississippi.
The Peoples Bank | Ripley | Mississippi.
Cadence Bank, National Association | Starkville | Mississippi.
New Mexico Educators FCU | Albuquerque | New Mexico.
American Heritage Bank | Clovis | New Mexico.
Grants State Bank | Grants | New Mexico.
First Community Bank | Taos | New Mexico.
First State Bank (The) | Abernathy | Texas.
First State Bank | Abilene | Texas.
Herring Bank | Amarillo | Texas.
First National Bank of Anderson | Anderson | Texas.
Libertad Bank SSB | Austin | Texas.
United Heritage Credit Union | Austin | Texas.
University Federal Credit Union | Austin | Texas.
Velocity Credit Union | Austin | Texas.
CommunityBank of Texas, N.A | Beaumont | Texas.
First International Bank | Bedford | Texas.
First National Bank of Bells/Savoy (The) | Bells | Texas.
State National Bank of Big Spring (The) | Big Spring | Texas.
First National Bank of Borger | Borger | Texas.
Citizens National Bank—Breckenridge | Breckenridge | Texas.
Citizens National Bank At Brownwood | Brownwood | Texas.
First National Bank of Burleson | Burleson | Texas.
Classic Bank, National Association | Cameron | Texas.
The First National Bank of Canadian | Canadian | Texas.
Capital Bank of Texas | Carrizo Springs | Texas.
Castroville State Bank | Castroville | Texas.
First State Bank | Chico | Texas.
Coleman County State Bank | Coleman | Texas.
First Coleman National Bank of Coleman | Coleman | Texas.
Brazos Valley Bank, N.A | College Station | Texas.
Peoples Bank | Colleyville | Texas.
Columbus State Bank | Columbus | Texas.
Town Center Bank | Coppell | Texas.
Navy Army | Corpus Christi | Texas.
Dallas City Bank | Dallas | Texas.
One World Bank | Dallas | Texas.
Pegasus Credit Union | Dallas | Texas.
Professional Bank, NA | Dallas | Texas.
Texas Security Bank | Dallas | Texas.
United Texas Bank | Dallas | Texas.
Your Federal Credit Union | Dallas | Texas.
State Bank of De Kalb | De Kalb | Texas.
North Texas Bank, N.A | Decatur | Texas.
Access 1st Capital Bank | Denton | Texas.
The Bank of Texas | Devine | Texas.
National Bank of Texas at Fort Worth | Fort Worth | Texas.
West Side Bank and Trust | Fort Worth | Texas.
Sage Capital Bank, N.A | Gonzales | Texas.
Graham National Bank | Graham | Texas.
Graham Savings & Loan | Graham | Texas.
HBank Texas | Grapevine | Texas.
State National Bank of Groom | Groom | Texas.
Hamlin National Bank | Hamlin | Texas.
Haskell National Bank | Haskell | Texas.
Hereford State Bank | Hereford | Texas.
Bank of Houston | Houston | Texas.
Capital Bank | Houston | Texas.
Golden Bank, National Association | Houston | Texas.
Green Bank, N.A | Houston | Texas.
Lone Star Bank | Houston | Texas.
Members Choice Credit Union | Houston | Texas.
MemberSource Credit Union | Houston | Texas.
Oasis Bank, SSB | Houston | Texas.
Patriot Bank | Houston | Texas.
Post Oak Bank, N.A | Houston | Texas.
Texas One Community Credit Union | Houston | Texas.
Tradition Bank | Houston | Texas.
Unity National Bank of Houston | Houston | Texas.
Plains State Bank | Humble | Texas.
TransPecos Banks—Iraan | Iraan | Texas.
Sovereign Bank, N.A | Irving | Texas.
Jourdanton State Bank | Jourdanton | Texas.
First State Bank | Junction | Texas.
Kleberg First National Bank of Kingsville | Kingsville | Texas.
Colorado Valley Bank, SSB | La Grange | Texas.
Texas Dow Employees Credit Union | Lake Jackson | Texas.
Independent Bank of Austin, SSB | Lakeway | Texas.
Laredo Federal Credit Union | Laredo | Texas.
AIMBank | Littlefield | Texas.
Arrowhead Bank | Llano | Texas.
Llano National Bank | Llano | Texas.
Peoples Bank | Lorenzo | Texas.
American State Bank | Lubbock | Texas.
Platinum Bank | Lubbock | Texas.
American Bank of Texas, N.A | Marble Falls | Texas.
Marfa National Bank | Marfa | Texas.
First Bank & Trust Of Memphis | Memphis | Texas.
Texas National Bank | Mercedes | Texas.
Incommons Bank, National Association | Mexia | Texas.
First National Bank of Olney | Olney | Texas.
The Liberty National Bank in Paris | Paris | Texas.
Security State Bank | Pearsall | Texas.
TransPecos Banks | Pecos | Texas.
HCSB | Plainview | Texas.
Beal Savings Bank | Plano | Texas.
LegacyTexas Bank | Plano | Texas.
Share Plus Federal Bank | Plano | Texas.
Southwest Corporate Federal Credit Union | Plano | Texas.
Texans Credit Union | Richardson | Texas.
San Angelo National Bank | San Angelo | Texas.
Broadway National Bank | San Antonio | Texas.
Jefferson State Bank | San Antonio | Texas.
First Community Bank, National Association | San Benito | Texas.
City National Bank of San Saba (The) | San Saba | Texas.
Schwertner State Bank | Schwertner | Texas.
First Commercial Bank NA | Seguin | Texas.
Farmers National Bank (The) | Seymour | Texas.
Peoples State Bank | Shepherd | Texas.
Texas Savings Bank, SSB | Snyder | Texas.
First State Bank | Spearman | Texas.
First Community Bank, National Association | Sugar Land | Texas.
First National Bank | Texarkana | Texas.
Mainland Bank | Texas City | Texas.
First NB of Throckmorton | Throckmorton | Texas.
Texstar National Bank | Universal City | Texas.
Texas Star Bank | Van Alstyne | Texas.
Fidelity Bank of Texas | Waco | Texas.
The Bank | Weatherford | Texas.
Fidelity Bank | Wichita Falls | Texas.
Federal Home Loan Bank of Topeka—District 10
First Western Trust Bank | Scottsdale | Arizona.
Pine River Valley Bank | Bayfield | Colorado.
Avanta Credit Union | Colorado Springs | Colorado.
Steele Street Bank & Trust | Denver | Colorado.
FirstBank of Arapahoe County—Littleton, CO | Englewood | Colorado.
Bank of Colorado | Fort Collins | Colorado.
Alpine Bank—Glenwood Springs, CO | Glenwood Springs | Colorado.
Cache Bank and Trust | Greeley | Colorado.
First American State Bank | Greenwood Village | Colorado.
Front Range Bank | Lakewood | Colorado.
The First National Bank of Las Animas | Las Animas | Colorado.
Colorado Credit Union | Littleton | Colorado.
Advantage Bank | Loveland | Colorado.
Mancos Valley Bank—Mancos, CO | Mancos | Colorado.
Integrity Bank & Trust | Monument | Colorado.
The Pueblo Bank and Trust Company—Pueblo, CO | Pueblo | Colorado.
High Country Bank—Salida, CO | Salida | Colorado.
International Bank | Trinidad | Colorado.
Great American Bank | De Soto | Kansas.
Farmers State Bank (The) | Fairview | Kansas.
Armed Forces Bank, N.A | Fort Leavenworth | Kansas.
Patriots Bank | Garnett | Kansas.
BANKWEST of Kansas | Goodland | Kansas.
Bank of Hays | Hays | Kansas.
Bank of Holyrood | Holyrood | Kansas.
First State Bank—Kansas City, KS | Kansas City | Kansas.
Heartland Bank | Leawood | Kansas.
Premier Bank—Lenexa, KS | Lenexa | Kansas.
United Bank & Trust | Marysville | Kansas.
The Farmers Bank | Osborne | Kansas.
Cross First Bank | Overland Park | Kansas.
Freedom Bank | Overland Park | Kansas.
TeamBank NA/Great Southern Bank | Paola | Kansas.
Bank VI | Salina | Kansas.
Community National Bank | Seneca | Kansas.
VisionBank | Topeka | Kansas.
The Troy State Bank—Troy, KS | Troy | Kansas.
Community Bank of Wichita, Inca | Wichita | Kansas.
Mid American Credit Union | Wichita | Kansas.
Commercial National Bank | Ainsworth | Nebraska.
Security State Bank | Ansley | Nebraska.
Archer Cooperative Credit Union | Archer | Nebraska.
State Bank of Bartley | Bartley | Nebraska.
Pathway Bank | Cairo | Nebraska.
Cedar Rapids State Bank | Cedar Rapids | Nebraska.
Columbus United Federal Credit Union | Columbus | Nebraska.
Frontier Bank | Davenport | Nebraska.
Bank of Elgin | Elgin | Nebraska.
Five Points Bank | Grand Island | Nebraska.
Banner County Bank | Harrisburg | Nebraska.
State Bank of Hildreth | Hildreth | Nebraska.
First State Bank | Hordville | Nebraska.
Adams County Bank—Kenesaw, NE | Kenesaw | Nebraska.
Farmers Bank | Lincoln | Nebraska.
First State Bank | Lincoln | Nebraska.
Citizens Bank | Loup City | Nebraska.
First Bank and Trust Company | Minden | Nebraska.
Minden Exchange Bank & Trust Co | Minden | Nebraska.
Platte Valley Bank | North Bend | Nebraska.
State Bank of Odell | Odell | Nebraska.
Four Points Federal Credit Union | Omaha | Nebraska.
Plattsmouth State Bank—Plattsmouth, NE | Plattsmouth | Nebraska.
State Bank of Riverdale | Riverdale | Nebraska.
Scribner Bank | Scribner | Nebraska.
The Jones NB&T Company of Seward | Seward | Nebraska.
Citizens Bank and Trust Company | St. Paul | Nebraska.
The Tri-County Bank | Stuart | Nebraska.
State Bank of Table Rock | Table Rock | Nebraska.
Countryside Bank | Unadilla | Nebraska.
First National Bank of Wahoo | Wahoo | Nebraska.
York State Bank And Trust Company | York | Nebraska.
Vision Bank, National Association | Ada | Oklahoma.
Alva State Bank & Trust Company | Alva | Oklahoma.
Community Bank | Alva | Oklahoma.
American National Bank | Ardmore | Oklahoma.
First Security Bank | Beaver | Oklahoma.
First Bethany Bank & Trust | Bethany | Oklahoma.
First State Bank | Boise City | Oklahoma.
SpiritBank, National Association | Bristow | Oklahoma.
First BankCentre | Broken Arrow | Oklahoma.
Farmers Bank | Carnegie | Oklahoma.
First State Bank | Commerce | Oklahoma.
Farmers and Merchants Bank | Crescent | Oklahoma.
Bank of Cushing and Trust Company | Cushing | Oklahoma.
First National Bank of Fletcher | Fletcher | Oklahoma.
Bank of Grove | Grove | Oklahoma.
Community State Bank | Hennessey | Oklahoma.
The Eastman NB | Newkirk | Oklahoma.
Regent Bank | Nowata | Oklahoma.
Municipal Employees Credit Union | Oklahoma City | Oklahoma.
Oklahoma Employees Credit Union | Oklahoma City | Oklahoma.
Valiance Bank | Oklahoma City | Oklahoma.
Century Bank of Oklahoma | Pryor | Oklahoma.
McClain Bank | Purcell | Oklahoma.
Oklahoma Heritage Bank | Roff | Oklahoma.
American Heritage Bank | Sapulpa | Oklahoma.
Bank of the Wichitas | Snyder | Oklahoma.
Tinker Federal Credit Union | Tinker Air Force Base | Oklahoma.
Freedom Bank of Oklahoma | Tulsa | Oklahoma.
Oklahoma Central Credit Union | Tulsa | Oklahoma.
First State Bank | Waynoka | Oklahoma.
Southwest National Bank | Weatherford | Oklahoma.
Welch State Bank | Welch | Oklahoma.
The State Bank of Wynnewood | Wynnewood | Oklahoma.
F&M Bank, National Association | Yukon | Oklahoma.
Federal Home Loan Bank of San Francisco—District 11
Union Bank, National Association | Gilbert | Arizona.
Community Bank of Arizona | Glendale | Arizona.
Mission Bank | Kingman | Arizona.
Mohave State Bank | Lake Havasu City | Arizona.
Arizona Bank & Trust | Mesa | Arizona.
Mesa Bank | Mesa | Arizona.
Arizona State Credit Union | Phoenix | Arizona.
Bank of Arizona, NA | Phoenix | Arizona.
Biltmore Bank of Arizona (The) | Phoenix | Arizona.
Camelback Community Bank | Phoenix | Arizona.
Credit Union West | Phoenix | Arizona.
Desert Schools Federal Credit Union | Phoenix | Arizona.
First Corporate Credit Union | Phoenix | Arizona.
Western National Bank | Phoenix | Arizona.
Summit Bank | Prescott | Arizona.
Legacy Bank | Scottsdale | Arizona.
Tempe Schools Credit Union | Tempe | Arizona.
TruWest Credit Union | Tempe | Arizona.
Bank of Tucson | Tucson | Arizona.
Southern Arizona Community Bank | Tucson | Arizona.
Vantage West Credit Union | Tucson | Arizona.
Meridian Bank, NA | Wickenburg | Arizona.
1st Bank Yuma | Yuma | Arizona.
Golden Security Bank | Alhambra | California.
Partners Federal Credit Union | Anaheim | California.
American Plus Bank, N.A | Arcadia | California.
Mission Bank | Bakersfield | California.
San Joaquin Bank | Bakersfield | California.
America's Christian Credit Union | Brea | California.
Uniti Bank | Buena Park | California.
Merchants Bank of California, NA | Carson | California.
Gateway Business Bank | Cerritos | California.
Premier America Credit Union | Chatsworth | California.
Telesis Community Credit Union | Chatsworth | California.
Seacoast Commerce Bank | Chula Vista | California.
American Continental Bank | City of Industry | California.
Coronado First Bank | Coronado | California.
Commercial Bank of California | Costa Mesa | California.
Rabobank, National Association | El Centro | California.
California United Bank | Encino | California.
Bank of Escondido | Escondido | California.
Redwood Capital Bank | Eureka | California.
Pan Pacific Bank | Fremont | California.
United Security Bank | Fresno | California.
Commerce National Bank | Fullerton | California.
Pacific Community Credit Union | Fullerton | California.
Community Credit Union of Southern Humboldt | Garberville | California.
California Credit Union | Glendale | California.
Granite Community Bank, NA | Granite Bay | California.
California First National Bank | Irvine | California.
Sce Federal Credit Union | Irwindale | California.
Regents Bank, NA | La Jolla | California.
Operating Engineers Local Union No. 3 FCU | Livermore | California.
Southland Credit Union | Los Alamitos | California.
1st Century Bank, N.A | Los Angeles | California.
Cathay Bank | Los Angeles | California.
Gilmore Bank | Los Angeles | California.
Pacific Commerce Bank | Los Angeles | California.
Pacific Resource Credit Union | Los Angeles | California.
PROMERICA Bank | Los Angeles | California.
Saehan Bank | Los Angeles | California.
Water and Power Community Credit Union | Los Angeles | California.
Beach Business Bank | Manhattan Beach | California.
SRI Federal Credit Union | Menlo Park | California.
Focus One Community Credit Union | Monrovia | California.
Visterra Credit Union | Moreno Valley | California.
Bank of Napa, N.A | Napa | California.
Charter Oak Bank | Napa | California.
CommerceWest Bank, NA | Newport Beach | California.
Independence Bank | Newport Beach | California.
Community Bank of the Bay | Oakland | California.
Innovative Bank | Oakland | California.
Stanford Federal Credit Union | Palo Alto | California.
CBC Federal Credit Union | Port Hueneme | California.
Bourns Employees Federal Credit Union | Riverside | California.
Premier Service Bank | Riverside | California.
Security Bank of California | Riverside | California.
First General Bank | Rowland Heights | California.
Heritage Community Credit Union | Sacramento | California.
Merchants National Bank of Sacramento (The) | Sacramento | California.
Pacific Valley Bank | Salinas | California.
Cabrillo Credit Union | San Diego | California.
California Coast Credit Union | San Diego | California.
Point Loma Community Bank | San Diego | California.
Security Business Bank of San Diego | San Diego | California.
Gateway Bank, AFSB | San Francisco | California.
Heritage Bank of Commerce | San Jose | California.
Technology Credit Union | San Jose | California.
Founders Community Bank | San Luis Obispo | California.
Mission Community Bank | San Luis Obispo | California.
First American Trust, FSB | Santa Ana | California.
Pacific Capital Bank. N.A | Santa Barbara | California.
National 1st Credit Union | Santa Clara | California.
Lighthouse Bank | Santa Cruz | California.
Santa Cruz County Bank | Santa Cruz | California.
Exchange Bank | Santa Rosa | California.
Mother Lode Bank | Sonora | California.
First National Bank of Northern California | South San Francisco | California.
Mission Valley Bank | Sun Valley | California.
Keypoint Credit Union | Sunnyvale | California.
California Oaks State Bank | Thousand Oaks | California.
Honda Federal Credit Union | Torrance | California.
Valley Business Bank | Visalia | California.
Visalia Community Bank | Visalia | California.
Bay Commercial Bank | Walnut Creek | California.
Community Business Bank | West Sacramento | California.
I.L.W.U. Credit Union | Wilmington | California.
Yolo Federal Credit Union | Woodland | California.
Western Commercial Bank | Woodland Hills | California.
Community Bank of Nevada | Las Vegas | Nevada.
Ensign Federal Credit Union | Las Vegas | Nevada.
M & I Bank FSB | Las Vegas | Nevada.
Nevada Commerce Bank | Las Vegas | Nevada.
SouthwestUSA Bank | Las Vegas | Nevada.
Charles Schwab Bank | Reno | Nevada.
Home NB | Blackwell | Oklahoma.
Federal Home Loan Bank of Seattle—District 12
Amerika Samoa Bank | Pago Pago | American Samoa.
HawaiiUSA Federal Credit Union | Honolulu | Hawaii.
Idaho Banking Company | Boise | Idaho.
The Farmers National Bank of Buhl | Buhl | Idaho.
Idaho Central Credit Union | Chubbuck | Idaho.
The Bank of Baker | Baker | Montana.
First Community Bank | Glasgow | Montana.
Valley Bank of Kalispell | Kalispell | Montana.
First National Bank of Montana, Inc | Missoula | Montana.
Gateway Community Federal Credit Union | Missoula | Montana.
Montana First Credit Union | Missoula | Montana.
1st Bank | Sidney | Montana.
The State Bank of Townsend | Townsend | Montana.
Central Williamette Community Credit Union | Albany | Oregon.
First Technology Credit Union | Beaverton | Oregon.
Bank of the Cascades | Bend | Oregon.
WAUNA Federal Credit Union | Clatskanie | Oregon.
Century Bank | Eugene | Oregon.
SELCO Community Credit Union | Eugene | Oregon.
Summit Bank | Eugene | Oregon.
Siuslaw Bank | Florence | Oregon.
Columbia Community Bank | Hillsboro | Oregon.
CenterPointe Community Bank | Hood River | Oregon.
People's Bank of Commerce | Medford | Oregon.
Advantis Credit Union | Milwaukie | Oregon.
OnPoint Community Credit Union | Portland | Oregon.
Unitus Community Credit Union | Portland | Oregon.
Umpqua Bank | Roseburg | Oregon.
Clackamas County Bank | Sandy | Oregon.
Clatsop Community Bank | Seaside | Oregon.
Lewiston State Bank | Lewiston | Utah.
America First Credit Union | Ogden | Utah.
Bank of Utah | Ogden | Utah.
Goldenwest Credit Union | Ogden | Utah.
Weber State Federal Credit Union | Ogden | Utah.
Western Community Bank | Orem | Utah.
American Bank of Commerce | Provo | Utah.
Utah Community Federal Credit Union | Provo | Utah.
Beehive Credit Union | Salt Lake City | Utah.
CIT Bank | Salt Lake City | Utah.
First Utah Bank | Salt Lake City | Utah.
Mountain High Federal Credit Union | Spanish Fork | Utah.
Heritage Bank | St. George | Utah.
North County Bank | Arlington | Washington.
Puget Sound Bank | Bellevue | Washington.
Industrial CU of Whatcom County | Bellingham | Washington.
Cashmere Valley Bank | Cashmere | Washington.
Bank of Everett | Everett | Washington.
Northwest Plus Credit Union | Everett | Washington.
HomeTown National Bank | Longview | Washington.
Washington Business Bank | Olympia | Washington.
Group Health Credit Union | Seattle | Washington.
The Commerce Bank of Washington, N.A | Seattle | Washington.
Verity Credit Union | Seattle | Washington.
Watermark Credit Union | Seattle | Washington.
First Heritage Bank | Snohomish | Washington.
AmericanWest Bank | Spokane | Washington.
Horizon Credit Union | Spokane | Washington.
Bank of Tacoma | Tacoma | Washington.
Rainier Pacific Bank | Tacoma | Washington.
Boeing Employees' Credit Union | Tukwila | Washington.
Warren Federal Credit Union | Cheyenne | Wyoming.
Western Vista Federal Credit Union | Cheyenne | Wyoming.
1st Bank | Evanston | Wyoming.
Bank of Jackson Hole | Jackson | Wyoming.
Central Bank & Trust | Lander | Wyoming.
Lusk State Bank | Lusk | Wyoming.
Wyoming National Bank | Riverton | Wyoming.
First Federal Savings Bank | Sheridan | Wyoming.

II. Public Comments

To encourage the submission of public comments on the community support performance of Bank members, on or before November 16, 2009, each Bank will notify its Advisory Council and nonprofit housing developers, community groups, and other interested parties in its district of the members selected for community support review in the 2008-09 seventh round review cycle. 12 CFR 944.2(b)(2)(ii). In reviewing a member for community support compliance, FHFA will consider any public comments it has received concerning the member. 12 CFR 944.2(d). To ensure consideration by FHFA, comments concerning the community support performance of members selected for the 2008-09 seventh round review cycle must be delivered to FHFA, either by hard-copy mail at the Federal Housing Finance Agency, Housing Mission and Goals, 1625 Eye Street, NW., Washington, DC 20006, or by electronic mail at RONA.RICHARDSON at hmgcommunitysupportprogram@fhfa.gov on or before the December 21, 2009 deadline for submission of Community Support Statements.

Dated: October 27, 2009.
Edward J. DeMarco,
Acting Director, Federal Housing Finance Agency.

[FR Doc. E9-26270 Filed 10-30-09; 8:45 am]

BILLING CODE P